Title 3—

The President

Proclamation 8181 of September 28, 2007

National Breast Cancer Awareness Month, 2007

By the President of the United States of America

A Proclamation

Breast cancer is the second leading cause of cancer-related deaths among American women. During National Breast Cancer Awareness Month, we renew our commitment to fighting this disease, raising awareness, and supporting those affected by breast cancer.

Research has shown that several factors may increase the risk of developing breast cancer, including family history, age, genetics, and obesity. By making healthy lifestyle choices and exercising regularly, individuals can help reduce the risk of developing breast cancer. Mammograms, regular self-exams, and clinical breast exams are also vital because they can help doctors diagnose cancer before it has a chance to spread. When breast cancer is detected early, treatment is more effective, giving hope to patients and helping save lives.

My Administration is committed to strengthening our Nation's efforts against this devastating disease. Earlier this year I was pleased to sign the “National Breast and Cervical Cancer Early Detection Program Reauthorization Act,” which will allow us to continue helping low-income and uninsured women gain access to vital cancer screening. In order to best detect and treat breast cancer, Federal agencies are collaborating with national organizations, State health agencies, and other key groups to promote important disease education and prevention activities. Our Nation leads the world in medical research, and through the dedicated efforts of thousands of Americans, we can build a healthier and more hopeful future for our citizens.

During National Breast Cancer Awareness Month, we remember those living with breast cancer and their family and friends who provide them with love and support. Their courage and determination are an inspiration to us all. We also recognize the innovative, lifesaving work of doctors, researchers, and other medical professionals. Through their efforts to prevent, detect, and treat breast cancer, they are helping make a difference in the lives of our citizens. Until we find a cure for breast cancer, we will continue our Nation's fight against this disease.

NOW, THEREFORE, I, GEORGE W. BUSH, President of the United States of America, by virtue of the power vested in me by the Constitution and the laws of the United States, do hereby proclaim October 2007 as National Breast Cancer Awareness Month. I call upon Government officials, businesses, communities, health care professionals, educators, volunteers, and the people of the United States to continue our Nation's strong commitment to preventing, treating, and ultimately curing breast cancer.

IN WITNESS WHEREOF, I have hereunto set my hand this twenty-eighth day of September, in the year of our Lord two thousand seven, and of the Independence of the United States of America the two hundred and thirty-second.

[FR Doc. 07-4936

Filed 10-2-07; 8:49 am]

Billing code 3195-01-P